DEPARTMENT OF ENERGY

Federal Energy Regulatory Commission

Combined Notice of Filings #1

Take notice that the Commission received the following electric corporate filings:

Docket Numbers: EC17-80-000.

Applicants: Ebensburg Power Company, Babcock & Wilcox Ebensburg Power, LLC, Ebensburg Investors Limited Partnership.

Description: Application for Authorization of Disposition of Jurisdictional Facilities under Section 203 of the Federal Power Act of Ebensburg Power Company, et. al.

Filed Date: 2/16/17.

Accession Number: 20170216-5211.

Comments Due: 5 p.m. ET 3/9/17.

Docket Numbers: EC17-81-000.

Applicants: Pocahontas Prairie Wind, LLC.

Description: Application for Authorization for Disposition of Jurisdictional Facilities and Request for Expedited Action of Pocahontas Prairie Wind, LLC.

Filed Date: 2/17/17.

Accession Number: 20170217-5041.

Comments Due: 5 p.m. ET 3/10/17.

Take notice that the Commission received the following exempt wholesale generator filings:

Docket Numbers: EG17-64-000.

Applicants: Chambersburg Energy, LLC.

Description: Chambersburg Energy, LLC submits Notice of Self-Certification of Exempt Wholesale Generator Status.

Filed Date: 2/17/17.

Accession Number: 20170217-5092.

Comments Due: 5 p.m. ET 3/10/17.

Docket Numbers: EG17-65-000.

Applicants: Gans Energy, LLC.

Description: Gans Energy, LLC submits Notice of Self-Certification of Exempt Wholesale Generator Status.

Filed Date: 2/17/17.

Accession Number: 20170217-5093.

Comments Due: 5 p.m. ET 3/10/17.

Docket Numbers: EG17-66-000.

Applicants: Hunlock Energy, LLC.

Description: Hunlock Energy, LLC submits Notice of Self-Certification of Exempt Wholesale Generator Status.

Filed Date: 2/17/17.

Accession Number: 20170217-5095.

Comments Due: 5 p.m. ET 3/10/17.

Docket Numbers: EG17-67-000.

Applicants: Springdale Energy, LLC.

Description: Springdale Energy, LLC submits Notice of Self-Certification of Exempt Wholesale Generator Status.

Filed Date: 2/17/17.

Accession Number: 20170217-5097.

Comments Due: 5 p.m. ET 3/10/17.

Docket Numbers: EG17-68-000.

Applicants: Bath County Energy, LLC.

Description: Bath County Energy, LLC submits Notice of Self-Certification of Exempt Wholesale Generator Status.

Filed Date: 2/17/17.

Accession Number: 20170217-5098.

Comments Due: 5 p.m. ET 3/10/17.

Take notice that the Commission received the following electric rate filings:

Docket Numbers: ER11-4369-001; ER16-2218-001.

Applicants: North American Power and Gas, LLC, North American Power Business, LLC.

Description: Notification of Change in Status of the North American MBR Sellers.

Filed Date: 2/16/17.

Accession Number: 20170216-5200.

Comments Due: 5 p.m. ET 3/9/17.

Docket Numbers: ER17-358-002.

Applicants: Southwest Power Pool, Inc.

Description: Compliance filing: Compliance Filing—Enhanced Combined Cycle Tariff Revisions to be effective 3/1/2017.

Filed Date: 2/17/17.

Accession Number: 20170217-5030.

Comments Due: 5 p.m. ET 3/10/17.

Docket Numbers: ER17-983-000.

Applicants: North American Power and Gas, LLC.

Description: § 205(d) Rate Filing: Market-Based Rate Tariff Revisions to be effective 2/17/2017.

Filed Date: 2/16/17.

Accession Number: 20170216-5180.

Comments Due: 5 p.m. ET 3/9/17.

Docket Numbers: ER17-984-000.

Applicants: North American Power Business, LLC.

Description: § 205(d) Rate Filing: Market-Based Rate Tariff Revisions to be effective 2/17/2017.

Filed Date: 2/16/17.

Accession Number: 20170216-5181.

Comments Due: 5 p.m. ET 3/9/17.

Docket Numbers: ER17-985-000.

Applicants: Midcontinent Independent System Operator, Inc.

Description: § 205(d) Rate Filing: 2017-02-16_SA 2907 RockGen-ATC GIA (J382/J384) to be effective 2/2/2017.

Filed Date: 2/16/17.

Accession Number: 20170216-5182.

Comments Due: 5 p.m. ET 3/9/17.

Docket Numbers: ER17-986-000.

Applicants: West Penn Power Company, PJM Interconnection, L.L.C.

Description: § 205(d) Rate Filing: West Penn Power Company Filing of Revised Attachment H-11A to PJM OATT to be effective 4/18/2017.

Filed Date: 2/17/17.

Accession Number: 20170217-5009.

Comments Due: 5 p.m. ET 3/10/17.

Docket Numbers: ER17-987-000.

Applicants: Iron Horse Battery Storage, LLC.

Description: Baseline eTariff Filing: Application for Market Based Rate to be effective 3/17/2017.

Filed Date: 2/17/17.

Accession Number: 20170217-5049.

Comments Due: 5 p.m. ET 3/10/17.

Docket Numbers: ER17-989-000.

Applicants: Chambersburg Energy, LLC.

Description: Baseline eTariff Filing: Application for Market-Based Rate Authorization and Request for Waivers to be effective 2/18/2017.

Filed Date: 2/17/17.

Accession Number: 20170217-5076.

Comments Due: 5 p.m. ET 3/10/17.

Docket Numbers: ER17-990-000.

Applicants: Gans Energy, LLC.

Description: Baseline eTariff Filing: Application for Market-Based Rate Authorization and Request for Waivers to be effective 2/18/2017.

Filed Date: 2/17/17.

Accession Number: 20170217-5080.

Comments Due: 5 p.m. ET 3/10/17.

Docket Numbers: ER17-991-000.

Applicants: Hunlock Energy, LLC.

Description: Baseline eTariff Filing: Application for Market-Based Rate Authorization and Request for Waivers to be effective 2/18/2017.

Filed Date: 2/17/17.

Accession Number: 20170217-5084.

Comments Due: 5 p.m. ET 3/10/17.

Docket Numbers: ER17-992-000.

Applicants: Springdale Energy, LLC.

Description: Baseline eTariff Filing: Application for Market-Based Rate Authorization and Request for Waivers to be effective 2/18/2017.

Filed Date: 2/17/17.

Accession Number: 20170217-5086.

Comments Due: 5 p.m. ET 3/10/17.

Docket Numbers: ER17-993-000.

Applicants: Bath County Energy, LLC.

Description: Baseline eTariff Filing: Application for Market-Based Rate Authorization and Request for Waivers to be effective 2/18/2017.

Filed Date: 2/17/17.

Accession Number: 20170217-5089.

Comments Due: 5 p.m. ET 3/10/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 17, 2017.
Nathaniel J. Davis, Sr.,
Deputy Secretary.

[FR Doc. 2017-03587 Filed 2-23-17; 8:45 am]

BILLING CODE 6717-01-P